COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List services to be furnished by nonprofit agencies employing persons who are blind or have other severe disabilities, and to delete products previously furnished by such agencies.

Comments Must Be Received On or Before: 7/6/2009.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

End of Certification

The following services are proposed for addition to Procurement List for production by the nonprofit agencies listed:

Services

Service Type/Locations: Custodial Services, Mercedita Airport, State Road No. 1, Ponce, PR. International Mail Facility, LMM Airport, Tony Santana Ave, San Juan, PR.

NPA: The Corporate Source, Inc., New York, NY.

Contracting Activity: Bureau of Customs and Border Protection, National Acquisition Center, Indianapolis, IN.

Service Type/Location: Grounds Maintenance Service, Marine Corps Reserve Center, 8820 Somers Rd, Jacksonville, FL.

NPA: Challenge Enterprises of North Florida, Inc., Green Cove Springs, FL.

Contracting Activity: Dept of the Navy, NAV Facilities Engineering Command, Norfolk, VA.

Service Type/Location: Supply Room Support Services, DCMA Headquarters, 6350 Walker Lane, Alexandria, VA.

NPA: Virginia Industries for the Blind, Charlottesville, VA.

Contracting Activity: Defense Contract Management Agency (DCMA), Alexandria, VA.

Service Type/Location: Document Management, USFS Pacific Northwest Region, Region 6, and the Pacific, Northwest Research Station, 5312 NE 148th Avenue, Portland, OR.

NPA: Portland Habilitation Center, Inc., Portland, OR.

Contracting Activity: Forest Service, Northwest Oregon Contracting Area, Sandy, OR.

Service Type/Locations: Furniture Services, MCOLF Atlantic Field, Air Base Road, Atlantic, NC., MCALF Bogue Field, HWY 70, Bogue, NC., MCAS Cherry Point, Hwy 101, Cherry Point, NC.

NPA: Coastal Enterprises of Jacksonville, Inc., Jacksonville, NC.

Contracting Activity: Department of the Navy, Marine Corps Air Station, Cherry Point MCAS, NC.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Pad, Floor Polishing Machine

NSN: 7910-01-513-2664—13″ Beige Buff.

NSN: 7910-01-513-2668—14″ Beige Buff.

NSN: 7910-01-513-2672—15″ Beige Buff.

NSN: 7910-01-513-2674—16″ Beige Buff.

NSN: 7910-01-513-4303—17″ Beige Buff.

NSN: 7910-01-513-2675—18″ Beige Buff.

NSN: 7910-01-513-2680—19″ Beige Buff.

NSN: 7910-01-513-2685—20″ Beige Buff.

NSN: 7910-01-513-2677—21″ Beige Buff.

NSN: 7910-01-513-2662—22″ Beige Buff.

NSN: 7910-01-513-2661—27″ Beige Buff.

NPA: Beacon Lighthouse, Inc., Wichita Falls, TX.

Contracting Activity: NAC, Veterans Affairs, HINES, IL.

NSN: 7530-01-450-5409—Appointment Book Refill, 2005.

NSN: 7530-01-517-5964—DAYMAX System, Desert, Camouflage Planner 2005.

NSN: 7530-01-517-5964L—DAYMAX System, Desert, Camouflage Planner 2005.

NSN: 7530-01-502-6815L—DAYMAX System, DOD Planner w/Logo, 2005.

NSN: 7530-01-502-6815—DAYMAX System, DOD Planner, 2005.

NSN: 7530-01-502-6812—DAYMAX System, GLE, 2005, Black.

NSN: 7530-01-502-6812L—DAYMAX System, GLE, 2005, Black w/Logo.

NSN: 7530-01-502-6813—DAYMAX System, GLE, 2005, Burgundy.

NSN: 7530-01-502-6813L—DAYMAX System, GLE, 2005, Burgundy w/Logo.

NSN: 7530-01-502-6814—DAYMAX System, GLE, 2005, Navy.

NSN: 7530-01-502-6814L—DAYMAX System, GLE, 2005, Navy w/Logo.

NSN: 7530-01-502-6810—DAYMAX System, IE, 2005, Black.

NSN: 7530-01-502-6810L—DAYMAX System, IE, 2005, Black w/Logo.

NSN: 7530-01-502-6811—DAYMAX System, IE, 2005, Burgundy.

NSN: 7530-01-502-6811L—DAYMAX System, IE, 2005, Burgundy w/Logo.

NSN: 7530-01-502-6806—DAYMAX System, IE, 2005, Navy.

NSN: 7530-01-502-6806L—DAYMAX System, IE, 2005, Navy w/Logo.

NSN: 7530-01-502-6822—DAYMAX System, JR Version, 2005, Black.

NSN: 7530-01-502-6822L—DAYMAX System, JR Version, 2005, Black w/Logo.

NSN: 7530-01-502-6821—DAYMAX System, JR Version, 2005, Burgundy.

NSN: 7530-01-502-6823—DAYMAX System, JR Version, 2005, Navy.

NSN: 7530-01-502-6823L—DAYMAX System, JR Version, 2005, Navy w/Logo.

NSN: 7530-01-502-6809—DAYMAX System, LE, 2005, Black.

NSN: 7530-01-502-6809L—DAYMAX System, LE, 2005, Black w/Logo.

NSN: 7530-01-502-6807—DAYMAX System, LE, 2005, Burgundy.

NSN: 7530-01-502-6807L—DAYMAX System, LE, 2005, Burgundy w/Logo.

NSN: 7530-01-502-6808—DAYMAX System, LE, 2005, Navy.

NSN: 7530-01-502-6808L—DAYMAX System, LE, 2005, Navy w/Logo.

NSN: 7530-01-502-6816—DAYMAX System, Woodland Camouflage Planner 2005.

NSN: 7510-01-502-7963—DAYMAX, GLE Day at a View, 2005, 7-hole.

NSN: 7510-01-502-6819—DAYMAX, GLE Month at a View, 2005, 7-hole.

NSN: 7510-01-502-6824—DAYMAX, GLE Week at a View, 2005, 7-hole.

NSN: 7510-01-502-6820—DAYMAX, IE/LE Day at a View, 2005, 3-hole.

NSN: 7510-01-502-6817—DAYMAX, IE/LE Month at a View, 2005, 3-hole.

NSN: 7510-01-502-6818—DAYMAX, IE/LE Week at a View, 2005, 3-hole.

NSN: 7510-01-502-7964—DAYMAX, JR, Day at a View, 2005, 6-hole.

NSN: 7510-01-502-6828—DAYMAX, Tabbed Monthly, 2005, 3-hole.

NSN: 7510-01-502-6829—DAYMAX, Tabbed Monthly, 2005, 7-hole.

NPA: The Easter Seal Society of Western Pennsylvania, Pittsburgh, PA.

Contracting Activity: GSA/FSS Ofc Sup Ctr—Paper Products, New York, NY.

Barry S. Lineback,
Director, Business Operations.

[FR Doc. E9-13131 Filed 6-4-09; 8:45 am]

BILLING CODE 6353-01-P